DEPARTMENT OF ENERGY

Federal Energy Regulatory Commission

[Docket Nos. ER04-688-000; ER04-689-000; ER04-690-000; and ER04-693-000]

Pacific Gas and Electric Company; Notice of Technical Conference

June 14, 2004.

Parties are invited to attend a technical conference in the above-referenced Pacific Gas and Electric Company (PG&E) proceedings on June 15-16, 2004, at Commission Headquarters, 888 First Street, NE., Washington, DC 20426. The technical conference will be held in Conference Room 3M-4. The June 15th technical conference will be held from 10 a.m. until 4 p.m. (e.s.t.). The June 16th technical conference will be held from 9 a.m. until noon (e.s.t.). Arrangements have been made for parties to listen to the technical conference by telephone.

The purpose of the conference is to identify the issues raised in these proceedings, develop information for use by Commission staff in preparing an order on the merits, and to facilitate any possible settlements in these proceedings. Specifically, the parties will discuss, among other things, the following unexecuted replacement agreements filed by PG&E in the above-referenced dockets: (1) The interconnection agreement between PG&E and Western Area Power Administration (WAPA), (2) the parallel operations agreement between PG&E and WAPA (PG&E Original Rate Schedule FERC No. 228), and (3) PG&E's wholesale distribution tariff service agreement for wholesale distribution service to WAPA.

Questions about the conference and the telephone conference call arrangements should be directed to: Julia A. Lake, Office of the General Counsel—Markets, Tariffs and Rates, Federal Energy Regulatory Commission, 888 First Street, NE., Washington, DC 20426, (202) 502-8370, Julia.lake@ferc.gov.

Magalie R. Salas,
Secretary.

[FR Doc. E4-1393 Filed 6-23-04; 8:45 am]

BILLING CODE 6717-01-P